DEPARTMENT OF COMMERCE

International Trade Administration

Environmental Technologies Trade Advisory Committee (ETTAC) Public Meeting

AGENCY: International Trade Administration, Commerce (DOC).

ACTION: Notice of an open meeting of a Federal advisory committee.

SUMMARY: This notice sets forth the schedule and proposed agenda of a meeting of the Environmental Technologies Trade Advisory Committee (ETTAC).

DATES: The meeting is scheduled for July 21, 2020, from 12:00 to 3:00 p.m. Eastern Daylight Time (EDT). The deadline for members of the public to register or to submit written comments for dissemination prior to the meeting is 5:00 p.m. EDT on Friday, July 10, 2020.

ADDRESSES: The meeting will take place virtually via Webex. To register and obtain call-in information, or submit comments, please contact: Mr. Adam O'Malley, Office of Energy & Environmental Industries (OEEI), International Trade Administration, via email: Adam.OMalley@trade.gov.

FOR FURTHER INFORMATION CONTACT: Mr. Adam O'Malley, Office of Energy & Environmental Industries (OEEI), International Trade Administration, via phone or email: 202-482-4850, Adam.OMalley@trade.gov.

SUPPLEMENTARY INFORMATION: The meeting will take place virtually on July 21, 2020, from 12:00 to 3:00 p.m. EDT. The general meeting is open to the public, and time will be permitted for public comment from 2:45-3:00 p.m. EDT. Members of the public seeking to attend the meeting are required to register in advance. Those interested in attending must provide notification by Friday, July 10, 2020, at 5:00 p.m. EDT, via the contact information provided above.

Written comments concerning ETTAC affairs are welcome any time before or after the meeting. To be considered during the meeting, written comments must be received by Friday, July 10, 2020, at 5:00 p.m. EDT to ensure transmission to the members before the meeting. Minutes will be available within 30 days of this meeting.

Topics to be considered: At this final meeting of the current (2018-2020) ETTAC charter, the ETTAC will present its recommendations to senior officials from the U.S. Department of Commerce, then interagency representatives of the Trade Promotion Coordinating Committee's Environmental Trade Working Group (TPCC ETWG) will respond to the recommendations that the ETTAC presented. The meeting will be co-chaired by senior officials from the International Trade Administration and the U.S. Environmental Protection Agency. The ETTAC's recommendation letters can be found atwww.export.gov/ettac. The recommendations were developed by the ETTAC's three subcommittees: Trade Policy and Trade Negotiations, Trade Promotion and Export Market Development, and Cooperation on Standards, Certifications and Regulations. OEEI will make the final agenda available to the public one week prior to the meeting. Please email Adam.OMalley@trade.gov for a copy.

Background: The ETTAC is mandated by Section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was most recently re-chartered through August 16, 2020.

Dated: June 29, 2020.
Man Cho,
Deputy Director, Office of Energy and Environmental Industries.

[FR Doc. 2020-14338 Filed 7-6-20; 8:45 am]

BILLING CODE 3510-DR-P